DEPARTMENT OF HEALTH AND HUMAN SERVICES

National Institutes of Health

Center for Scientific Review; Amended Notice of Meeting

Notice is hereby given of a change in the meeting of the Center for Scientific Review Special Emphasis Panel, October 01, 2013, 09:00 a.m. to October 01, 2013, 04:00 p.m., National Institutes of Health, 6701 Rockledge Drive, Bethesda, MD 20892, which was published in the Federal Register on September 03, 2013, 78 FR 170 Pgs. 54259-54261.

The meeting will start on December 13, 2013 at 8:45 a.m. and end on December 13, 2013 at 1:30 p.m.

The meeting location remains the same. The meeting is closed to the public.

Dated: October 29, 2013.
Melanie J. Gray,
Program Analyst, Office of Federal Advisory Committee Policy.

[FR Doc. 2013-26216 Filed 11-1-13; 8:45 am]

BILLING CODE 4140-01-P